DEPARTMENT OF AGRICULTURE

Forest Service

Notice of Proposed New Fee Site; Federal Lands Recreation Enhancement Act (Title VIII. Pub. L. 108-447)

AGENCY: Manti-La Sal National Forest, Forest Service, USDA.

ACTION: Notice of proposed new fee site.

SUMMARY: The Manti-La Sal National Forest is proposing to charge a fee at the Mammoth Administrative Site. Mammoth and Lake Cabins would be available June 5 to September 30 at $50.00 per night each. Either one or both cabins could be rented, but if both are rented, they must be to the same customer. Fees are assessed based on the level of amenities and services provided, cost of operations and maintenance, and market assessment. The fee is proposed and will be determined upon further analysis and public comment. Funds from fees would be used for the continued operation and improvements of these rental cabins.

An Analysis of the nearby private rental cabins with similar amenities shows that the proposed fees are reasonable and typical of similar sites in the area.

DATES: Comments will be accepted through January 31, 2017. New fees would begin the spring of 2017.

ADDRESSES: Brian Pentecost, Forest Supervisor, Manti-La Sal National Forest, 599 West Price River Drive, Price, UT 84501.

FOR FURTHER INFORMATION CONTACT: Jessica Jewkes, Recreation Specialist, 435-636-3587. Information about proposed fee changes can also be found on the Manti-La Sal National Forest Web site: http://www.fs.usda.gov/mantilasal.

SUPPLEMENTARY INFORMATION: The Federal Recreation Lands Enhancement Act (Title VII, Pub. L. 108-447) directed the Secretary of Agriculture to publish a six month advance notice on the Federal Register whenever new recreation fee areas are established. Once public involvement is complete, these new fees will be reviewed by a Recreation Resource Advisory Committee prior to a final decision and implementation. People wanting to reserve these cabins would need to do so through the National Recreation Reservation Service, at www.recreation.gov or by calling 1-877-444-6777 when it becomes available.

Dated: December 6, 2016.
Brian M. Pentecost,
Forest Supervisor.

[FR Doc. 2016-29847 Filed 12-12-16; 8:45 am]

BILLING CODE 3411-15-P